FEDERAL COMMUNICATIONS COMMISSION

47 CFR Part 73

[FCC 00-169; MM Docket No. 94-78; RM-8472 and RM-8525]

Radio Broadcasting Services; Cloverdale, Montgomery, and Warrior, AL

AGENCY: Federal Communications Commission.

ACTION: Final rule; application for review.

SUMMARY: This document denies an application for review filed by William P. Rogers that appeals the Memorandum Opinion and Order, 62 FR 9375 (March 3, 1997), in this proceeding insofar as it refused to accept Rogers' counterproposal to allot Channel 254A to Florence, Alabama. Rogers' counterproposal was rejected primarily because it did not provide 100 percent city-grade coverage of Florence, as required by Section 73.315(a) of the Commission's Rules. This document does not deal with Pulaski Broadcasting, Inc.'s proposal to allot FM Channel 254A to Cloverdale, Alabama, which was rejected in a previous order. Nor does this document consider a joint counterproposal filed by former licensees of Stations WBHK(FM), Warrior, Alabama, and Station WBAM-FM, Montgomery, Alabama, which was granted by a previous order.

ADDRESSES: Federal Communications Commission, 445 12th Street, SW, Room TW-A325, Washington, DC 20554.

FOR FURTHER INFORMATION CONTACT: R. Barthen Gorman, Mass Media Bureau, (202) 418-2180.

SUPPLEMENTARY INFORMATION: This is a synopsis of the Commission's Memorandum Opinion and Order, MM Docket No. 94-78, adopted May 12, 2000, and released June 14, 2000. The full text of this Commission decision is available for inspection and copying during normal business hours in the FCC's Reference Information Center at Portals II, CY-A257, 445 12th Street, SW, Washington, DC. The complete text of this decision may also be purchased from the Commission's copy contractors, International Transcription Service, Inc., (202) 857-3800, 1231 20th Street NW., Washington, DC 20036.

Federal Communications Commission.
William F. Caton,
Deputy Secretary.

[FR Doc. 00-18051 Filed 7-14-00; 8:45 am]

BILLING CODE 6712-01-P